DEPARTMENT OF THE INTERIOR

National Park Service

[NPS-WASO-NAGPRA-NPS0033641; PPWOCRADN0-PCU00RP14.R50000]

Notice of Inventory Completion: Michigan State Historic Preservation Office, Lansing, MI

AGENCY: National Park Service, Interior.

ACTION: Notice.

SUMMARY: The Michigan State Historic Preservation Office (Michigan SHPO) has completed an inventory of human remains and associated funerary objects, in consultation with the appropriate Indian Tribes or Native Hawaiian organizations, and has determined that there is a cultural affiliation between the human remains and associated funerary objects and a present-day Indian Tribes or Native Hawaiian organizations. Lineal descendants or representatives of any Indian Tribe or Native Hawaiian organization not identified in this notice that wish to request transfer of control of these human remains and associated funerary objects should submit a written request to the Michigan SHPO. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Michigan SHPO at the address in this notice by April 29, 2022.

FOR FURTHER INFORMATION CONTACT: Michael Hambacher, Staff Archeologist, State Historic Preservation Office, Michigan Economic Development Corporation Building, 300 N Washington Square, Lansing, MI 48913, telephone (517) 243-9513, email hambacherm@michigan.gov.

SUPPLEMENTARY INFORMATION: Notice is here given in accordance with the Native American Graves Protection and Repatriation Act (NAGPRA), 25 U.S.C. 3003, of the completion of an inventory of human remains and associated funerary objects under the control of the Michigan State Historic Preservation Office, Lansing, MI. The human remains and associated funerary objects were removed from the White Rapids site (20ME3), Menominee County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Michigan SHPO professional staff in consultation with representatives of the Chippewa Cree Indians of the Rocky Boy's Reservation, Montana (previously listed as Chippewa-Cree Indians of the Rocky Boy's Reservation, Montana); Hannahville Indian Community, Michigan; Keweenaw Bay Indian Community, Michigan; Lac Vieux Desert Band of Lake Superior Chippewa Indians of Michigan; Little Shell Tribe of Chippewa Indians of Montana; Match-e-be-nash-she-wish Band of Pottawatomi Indians of Michigan; Menominee Indian Tribe of Wisconsin; Minnesota Chippewa Tribe, Minnesota (Mille Lacs Band); Nottawaseppi Huron Band of the Potawatomi, Michigan (previously listed as Huron Potawatomi, Inc.); and the Pokagon Band of Potawatomi Indians, Michigan and Indiana (hereafter referred to as “The Consulted Tribes”).

The Bad River Band of the Lake Superior Tribe of Chippewa Indians of the Bad River Reservation, Wisconsin; Citizen Potawatomi Nation, Oklahoma; Forest County Potawatomi Community, Wisconsin; Lac Courte Oreilles Band of Lake Superior Chippewa Indians of Wisconsin; Lac du Flambeau Band of Lake Superior Chippewa Indians of the Lac du Flambeau Reservation of Wisconsin; Minnesota Chippewa Tribe, Minnesota (Bois Forte Band (Nett Lake); Fond du Lac Band; Grand Portage Band; Leech Lake Band; White Earth Band); Prairie Band Potawatomi Nation (previously listed as Prairie Band of Potawatomi Nation, Kansas); Red Cliff Band of Lake Superior Chippewa Indians of Wisconsin; Red Lake Band of Chippewa Indians, Minnesota; Sokaogon Chippewa Community, Wisconsin; St. Croix Chippewa Indians of Wisconsin; and the Turtle Mountain Band of Chippewa Indians of North Dakota (hereafter referred to as “The Invited Tribes”) were invited to consult, but did not participate.

History and Description of the Human Remains

In 1956, human remains representing, at minimum, nine individuals were removed from the White Rapids site (20ME3), in Menominee County, MI, during an excavation conducted by an archeologist from the University of Michigan Museum of Anthropological Archaeology. The site consists of a pair of mounds located near the Menominee River in the Menominee State Forest. Human remains and associated funerary objects were removed from Mound 2, which contained three separate burial episodes designated as Features 1, 2, and 3. Feature 1 is described as an extended adult female burial. Feature 2 is described as containing charred human remains from several long bones representing multiple individuals. Feature 3 is described as fragmentary human remains from a disturbed burial. The human remains removed from the site are one young adult 19-30 years old, female; one adult, female; one child 9-10 years old; one older adult 40+ years old, indeterminate sex; one cremated adult, indeterminate sex; one older adult 40+ years old, possible male; one adult, possible female; one cremated adult, possible male; and one cremated adult 35-49 years old, female. The burials date to the Late Woodland Period (500-1400 A.D.) based on burial treatment. No known individuals were identified. The six associated funerary objects are one lot of charred wood; one lot of charcoal, soil, and unworked pebbles; one lot of ashes; one lot of charcoal; one lot of fire-cracked rock; and one lot of grit-tempered and decorated ceramic sherd.

The human remains have been determined to be Native American based on cranial morphology, accession documentation, and archeological context. A relationship of shared group identity can be reasonably traced between the Native American human remains from this site and the Menominee Indian Tribe of Wisconsin, based on the site's location within the lands traditionally occupied by the Menominee. Moreover, according to oral tradition and historical accounts, the Menominee were most likely the predominant tribe in the vicinity of the site during the date range for this burial.

Determinations Made by the Michigan State Historic Preservation Office

Officials of the Michigan State Historic Preservation Office have determined that:

• Pursuant to 25 U.S.C. 3001(9), the human remains described in this notice represent the physical remains of nine individuals of Native American ancestry.

• Pursuant to 25 U.S.C. 3001(3)(A), the six objects described in this notice are reasonably believed to have been placed with or near individual human remains at the time of death or later as part of the death rite or ceremony.

• Pursuant to 25 U.S.C. 3001(2), there is a relationship of shared group identity that can be reasonably traced between the Native American human remains and associated funerary objects and the Menominee Indian Tribe of Wisconsin.

Additional Requestors and Disposition

Lineal descendants or representatives of any Indian Tribe or Native Hawaiian organization not identified in this notice that wish to request transfer of control of these human remains and associated funerary object should submit a written request with information in support of the request to Michael Hambacher, Staff Archeologist, State Historic Preservation Office, Michigan Economic Development Corporation Building, 300 N Washington Square, Lansing, MI 48913, telephone (517) 243-9513, email hambacherm@michigan.gov, by April 29, 2022. After that date, if no additional requestors have come forward, transfer of control of the human remains and associated funerary objects to the Menominee Indian Tribe of Wisconsin may proceed.

The Michigan State Historic Preservation Office is responsible for notifying The Consulted Tribes and The Invited Tribes that this notice has been published.

Dated: March 23, 2022.
Melanie O'Brien,
Manager, National NAGPRA Program.

[FR Doc. 2022-06666 Filed 3-29-22; 8:45 am]

BILLING CODE 4312-52-P